DEPARTMENT OF COMMERCE

Foreign-Trade Zones Board

[B-21-2020]

Foreign-Trade Zone (FTZ) 70—Detroit, Michigan; Authorization of Production Activity; Pacific Industrial Development Corporation (Zeolites, Specialty Alumina Products, Rare Earth Powders and Aqueous Solutions); Ann Arbor, Michigan

On April 6, 2020, Greater Detroit Foreign-Trade Zone, Inc., grantee of FTZ 70, submitted a notification of proposed production activity to the FTZ Board on behalf of Pacific Industrial Development Corporation, within FTZ 70, in Ann Arbor, Michigan.

The notification was processed in accordance with the regulations of the FTZ Board (15 CFR part 400), including notice in the Federal Register inviting public comment (85 FR 20664-20665, April 14, 2020). On August 4, 2020, the applicant was notified of the FTZ Board's decision that no further review of the activity is warranted at this time. The production activity described in the notification was authorized, subject to the FTZ Act and the FTZ Board's regulations, including Section 400.14.

Dated: August 4, 2020.
Andrew McGilvray,
Executive Secretary.

[FR Doc. 2020-17316 Filed 8-6-20; 8:45 am]

BILLING CODE 3510-DS-P